GENERAL SERVICES ADMINISTRATION

[2003-N03]

GSA Discontinues Printing and Distribution of the Catalog of Federal Domestic Assistance

AGENCY: Office of Governmentwide Policy; Office of Acquisition Policy, GSA.

ACTION: Notice.

SUMMARY: For years, GSA has published a printed version of the Catalog of Federal Domestic Assistance (CFDA or Catalog), as required by legislation dating to 1977 and 1983. That same legislation allowed GSA to distribute free copies of the printed Catalog to designated recipients. In fiscal year 2003, we distributed nearly 10,000 paper copies of the Catalog at no cost to the recipients.

Current legislation, however, authorizes GSA to determine in what form to prepare and publish the Catalog. Consistent with the Administration's Electronic-Government initiatives, the Government Paperwork Elimination Act, and a move to a paper free environment, GSA will now disseminate the Catalog electronically through the CFDA Web site on the Internet. As a result, effective immediately, GSA will no longer print and distribute free copies of the Catalog.

The Internet and GSA's free CFDA Web site at http://www.cfda.gov will be the primary means of disseminating the Catalog. In addition to what is already there, the Web site will soon contain a version of the Catalog that, when printed by any user, will have the same layout as the printed document that the Government Printing Office (GPO) has provided.

Furthermore, GPO recently indicated that it will continue printing and selling the CFDA to interested buyers. For information about purchasing the Catalog of Federal Domestic Assistance from GPO, call the Superintendent of Documents at 202-512-1800 or toll free at 866-512-1800, or you may reach GPO's on-line bookstore at http://bookstore.gpo.gov.

DATES: This notice is effective June 16, 2003.

FOR FURTHER INFORMATION CONTACT: Ms. Kathy Hospodar, CFDA Team Leader, General Services Administration, by phone at (202) 208-4052.

Dated: June 10, 2003.
David A. Drabkin,
Deputy Associate Administrator, Office of Acquisition Policy.

[FR Doc. 03-15103 Filed 6-13-03; 8:45 am]

BILLING CODE 6820-61-P